GENERAL SERVICES ADMINISTRATION

[OMB Control No. 3090-0324: Docket No. 2021-0001; Sequence No. 10]

General Services Administration Acquisition Regulation; Information Collection; Foreign Ownership and Financing Representation for High-Security Leased Space

AGENCY: Office of Acquisition Policy, General Services Administration (GSA).

ACTION: Notice of request for comments.

SUMMARY: In accordance with the Paperwork Reduction Act of 1995 and Office of Management and Budget (OMB) regulations, GSA invites the public to comment on an extension concerning disclosure of foreign ownership information under high-security lease space acquisitions. OMB has approved this information collection for use through January 31, 2022. GSA proposes that OMB extend its approval for use for three additional years beyond the current expiration date.

DATES: GSA will consider all comments received by October 26, 2021.

ADDRESSES: Submit comments on this information collection to https://www.regulations.gov. Submit comments via the Federal eRulemaking portal by searching for “Information Collection 3090-0324”. Select the link “Comment Now” that corresponds with Information Collection 3090-0324. Follow the instructions provided at the “Comment Now” screen. Please include your name, company name (if any), and “Information Collection 3090-0324” on your attached document.

Instructions: Please submit comments only and cite “Information Collection 3090-0324” in all correspondence related to this collection. Comments received generally will be posted without change to regulations.gov, including any personal and/or business confidential information provided. To confirm receipt of your comment(s), please check regulations.gov approximately two-to-three days after submission to verify posting.

FOR FURTHER INFORMATION CONTACT: Mr. Stephen Carroll, 817-253-7858, General Services Acquisition Policy Division, by email at gsarpolicy@gsa.gov.

SUPPLEMENTARY INFORMATION:

A. Purpose

The Paperwork Reduction Act (PRA) of 1995 (44 U.S.C. 3501 et seq.) provides that an agency generally cannot conduct or sponsor a collection of information, and no person is required to respond to, nor be subject to, a penalty for failure to comply with a collection of information, unless that collection has obtained Office of Management and Budget (OMB) approval and displays a currently valid OMB Control Number.

Consistent with 5 CFR 1320.13, GSA requested and OMB authorized emergency processing of an information collection, as OMB Control Number 3090-0324, to identify the immediate or highest-level owner of high-security leased space, including any financing entity, and disclose whether that owner or financing entity is a foreign person or entity, including the country associated with the ownership or financing entity through GSAR 552.270-33. GSA has determined the following conditions have been met:

a. The collection of information is needed prior to the expiration of time periods normally associated with a routine submission for review under the provisions of the Paperwork Reduction Act, because the disclosure requirements of Section 3 of the Secure Federal LEASEs Act (Pub. L. 116-276) were effective on June 30, 2021.

b. The collection of information is essential to GSA's mission to ensure GSA complies with Section 3 in order to reduce security risks such as espionage and unauthorized cyber and physical access in high-security leased space.

c. GSA cannot comply with the normal clearance procedures because public harm is reasonably likely to result if current clearance procedures are followed.

This requirement supports implementation of Section 3 of the Secure Federal LEASEs Act (Pub. L. 116-276) for high-security leased space. This section requires offerors to identify the immediate or highest-level owner of the space, including any financing entity, and disclose whether that owner or financing entity is a foreign person or entity, including the country associated with the ownership entity. The offerors shall (1) provide such identification and disclosure when first submitting a proposal in response to a solicitation; and, if awarded the lease, (2) update such information annually.

This requirement is partially implemented in the Federal Acquisition Regulation (FAR) through the provisions at FAR 52.204-3, Taxpayer Identification, FAR 52.204-7, System for Award Management, FAR 52.204-17, Ownership and Control of Offeror, and clause at FAR 52.204-13, System for Award Management Maintenance. OMB Control Numbers 9000-0097 and 9000-0185 cover the FAR provisions and clause. However, the FAR does not account for foreign financing as required by the Act.

B. Annual Reporting Burden

This information collection applies to GSA lease procurements for high-security space. The annual public reporting burden for this collection of information through GSAR 552.270-33 is estimated based on the time for reviewing instructions, searching existing data sources, gathering and maintaining the data needed, and completing and reviewing the collection of information.

The annual reporting burden is estimated as follows:

1. Initial Disclosure

Baseline Representation

Estimated annual responses: 542.

Estimated hours per response: 2.

Additional Representation

Estimated annual responses: 54.

Estimated hours per response: 10.

Total Initial Response Burden Hours: 1,624.

2. Annual Updates

Estimated annual responses: 542.

Estimated hours per response: 0.25.

Total Update Response Burden Hours: 136.

C. Public Comments

Public comments are particularly invited on: Whether this collection of information is necessary; whether it will have practical utility; whether our estimate of the public burden of this collection of information is accurate, and based on valid assumptions and methodology; ways to enhance the quality, utility, and clarity of the information to be collected; and ways in which we can minimize the burden of the collection of information on those who are to respond, through the use of appropriate technological collection techniques or other forms of information technology.

Jeffrey A. Koses,
Senior Procurement Executive, Office of Acquisition Policy, Office of Government-wide Policy.

[FR Doc. 2021-18503 Filed 8-26-21; 8:45 am]

BILLING CODE 6820-61-P